FEDERAL MARITIME COMMISSION

Sunshine Act Meeting

Agency Holding the Meeting: Federal Maritime Commission.

Time and Date: August 6, 2008—10 a.m.

Place: 800 North Capitol Street, NW., First Floor Hearing Room, Washington, DC.

Status: A portion of the meeting will be in Open Session and the remainder of the meeting will be in Closed Session.

Matters To Be Considered

Open Session

(1) FMC Agreement No. 201188—Houston Terminal, LLC Cooperative Working Agreement, effective August 9, 2008.

(2) FMC Agreement No. 201189—New Orleans Terminal, LLC Cooperative Working Agreement, effective August 9, 2008.

Closed Session

(1) Los Angeles/Long Beach Port/Terminal Agreements.

(2) Internal Administrative Practices and Personnel Matters.

FOR FURTHER INFORMATION CONTACT: Karen V. Gregory, Assistant Secretary, (202) 523-5725.

Karen V. Gregory,
Assistant Secretary,

[FR Doc. E8-17838 Filed 7-30-08; 4:15 pm]

BILLING CODE 6730-01-P